NATIONAL SCIENCE FOUNDATION

Agency Information Collection Activities: Comment Request; Survey of Graduate Students and Postdoctorates in Science and Engineering

AGENCY: National Science Foundation.

ACTION: Submission for OMB Review; comment request.

SUMMARY: The National Science Foundation (NSF) has submitted the following request for revision of the approved collection of research and development data in accordance with the Paperwork Reduction Act of 1995. This is the second notice for public comment; the first was published in the Federal Register and no comments were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: NSF may not conduct or sponsor a collection of information unless the collection of information displays a currently valid OMB control number and the agency informs potential persons who are to respond to the collection of information that such persons are not required to respond to the collection of information unless it displays a currently valid OMB control number.

Title of Collection: Survey of Graduate Students and Postdoctorates in Science and Engineering.

OMB Control Number: 3145-0062.

Expiration Date of Current Approval: August 31, 2023.

Type of Request: Intent to seek approval to extend an information collection for three years.

The Survey of Graduate Students and Postdoctorates in Science and Engineering (GSS), sponsored by the NCSES within NSF and the National Institutes of Health, is designed to comply with legislative mandates by providing information on the characteristics of academic graduate enrollments in science, engineering, and health fields. This request to extend the information collection for three years is to cover the 2023, 2024, and 2025 GSS survey cycles. The information collected by the GSS is solicited under the authority of the National Science Foundation Act of 1950, as amended and the America COMPETES Reauthorization Act of 2010. Data collection starts each fall in October and data are obtained primarily through a Web survey. Data are disseminated annually. All information will be used for statistical purposes only. Participation in the survey is voluntary.

To improve coverage of postdocs, the GSS periodically collects information on postdocs employed in Federally Funded Research and Development Centers (FFRDCs). This survey of postdocs at FFRDCs will be conducted as part of the 2023 and 2025 GSS survey cycles.

Additional details regarding this survey are provided in an earlier Federal Register Notice, at 88 FR 10386.

Use of the Information: The GSS data are routinely provided to Congress, other parts of NSF, other Federal agencies, the GSS institutions themselves, and several professional societies. In addition, the National Institutes of Health (NIH) publish GSS data annually in the NIH Data Book https://report.nih.gov/nihdatabook/.

Expected Respondents: The GSS is an annual census of all eligible academic institutions in the U.S. with graduate programs in science, engineering, and health fields. The response rate is calculated based on the number of reporting units (departments, programs, research centers, and health care facilities) that respond to the survey. For reference, in 2021, the GSS population was 21,365 units reported from 787 schools at 699 academic institutions. Based on recent cycles NCSES expects the annual response rate to be around 96 percent.

Estimate of Burden: The total estimated respondent burden of the GSS, including 2,000 hours for potential methodological studies to improve the survey procedures, will be 60,367 hours over the three-cycle survey clearance period. NCSES may review and revise this burden estimate based on completion time data collected during the 2022 GSS survey cycle, which is ongoing.

Table 1—GSS Estimated Response Burden
Category | Respondents (number of school coordinators) | Total burden (hours)
Total burden for 2023: | 919 | 19,442
GSS institutions | 876 | 19,352
FFRDCs | 43 | 90
Total burden for 2024 | 881 | 19,396
Total burden for 2025: | 929 | 19,529
GSS institutions | 886 | 19,439
FFRDCs | 43 | 90
Potential future methodological studies (across all 3 survey cycles) |  | 2,000
Total estimated burden | 2,729 | 60,367
Estimated average annual burden | 910 | 20,123

Comments: As required by 5 CFR 1320.8(d), comments on the information collection activities as part of this study were solicited through publication of a 60-Day Notice in the Federal Register on February 17, 2023, at 88 FR 10386. NCSES received no comments.

Dated: July 27, 2023.
Suzanne H. Plimpton,
Reports Clearance Officer, National Science Foundation.

[FR Doc. 2023-16401 Filed 8-1-23; 8:45 am]

BILLING CODE 7555-01-P